DEPARTMENT OF HEALTH AND HUMAN SERVICES

National Institutes of Health

National Institute of Allergy and Infectious Diseases; Amended Notice of Meeting

Notice is hereby given of a change in the meeting of the National Institute of Allergy and Infectious Diseases Special Emphasis Panel, April 23, 2015, 01:00 p.m. to April 23, 2015, 04:00 p.m., National Institutes of Health, 5601 Fishers Lane, Rockville, MD, 20852 which was published in the Federal Register on March 25, 2015, 80 FR 15798-15799.

The meeting notice is amended to change the date of the meeting from 4/23/2015 to 5/22/2015. The meeting is closed to the public.

Dated: April 22, 2015.
David Clary,
Program Analyst, Office of Federal Advisory Committee Policy.

[FR Doc. 2015-09879 Filed 4-28-15; 8:45 am]

BILLING CODE 4140-01-P